DEPARTMENT OF THE TREASURY

Senior Executive Service; Legal Division Performance Review Board

AGENCY: Department of the Treasury.

ACTION: Notice of members of the Legal Division Performance Review Board (PRB).

SUMMARY: This notice announces the appointment of members of the Legal Division PRB. The purpose of this Board is to review and make recommendations concerning proposed performance appraisals, ratings, bonuses, and other appropriate personnel actions for incumbents of SES positions in the Legal Division.

DATES: October 8, 2019.

FOR FURTHER INFORMATION CONTACT: Brian Sonfield, Assistant General Counsel for General Law, Ethics and Regulation, Office of the General Counsel, Department of the Treasury, 1500 Pennsylvania Avenue NW, Room 3000, Washington, DC 20220, Telephone: (202) 622-0283 (this is not a toll-free number).

SUPPLEMENTARY INFORMATION:

Composition of Legal Division PRB

The Board shall consist of at least three members. In the case of an appraisal of a career appointee, more than half the members shall consist of career appointees. Composition of the specific PRBs will be determined on an ad hoc basis from among the individuals listed in this notice.

The names and titles of the PRB members are as follows:

Paul Ahern, Assistant General Counsel (Enforcement & Intelligence);

Michael Briskin, Deputy Assistant General Counsel (General Law and Regulation)

Michelle Dickerman, Deputy Assistant General Counsel (Litigation, Oversight, and Financial Stability)

Eric Froman, Assistant General Counsel (Banking and Finance);

John Schorn, Chief Counsel, U.S. Mint

Anthony Gledhill, Chief Counsel, Alcohol Tobacco, Tax, and Trade Bureau;

Jimmy Kirby, Chief Counsel, Financial Crimes Enforcement Network;

Jeffrey Klein, Deputy Assistant General Counsel (International Affairs);

Carol Weiser, Benefits Tax Counsel;

Douglas Poms, International Tax Counsel;

Heather Book, Chief Counsel, Bureau of Engraving and Printing;

Brian Sonfield, Assistant General Counsel (General Law, Ethics and Regulation);

Charles Steele, Chief Counsel, Office of Foreign Assets Control;

David Sullivan, Assistant General Counsel (International Affairs);

Drita Tonuzi, Deputy Chief Counsel (Operations), Internal Revenue Service;

Heather Trew, Deputy Assistant General Counsel (Enforcement & Intelligence);

Krishna Vallabhaneni, Tax Legislative Counsel and;

Paul Wolfteich, Chief Counsel, Bureau of the Fiscal Service.

(Authority 5 U.S.C. 4314(c)(4)).

Brian R. Callanan,
General Counsel.

[FR Doc. 2019-21910 Filed 10-7-19; 8:45 am]

BILLING CODE 4810-25-P